DEPARTMENT OF AGRICULTURE

Foreign Agricultural Service

WTO Agricultural Safeguard Trigger Levels

AGENCY: Foreign Agricultural Service, USDA.

ACTION: Notice.

SUMMARY: This notice lists the updated quantity trigger levels for products which may be subject to additional import duties under the safeguard provisions of the WTO Agreement on Agriculture. This notice also includes the relevant period applicable for the trigger levels on each of the listed products.

DATES: Effective Date: May 31, 2011.

FOR FURTHER INFORMATION CONTACT: Safeguard Staff, Import Policies and Export Reporting Division, Office of Trade Programs, Foreign Agricultural Service, U.S. Department of Agriculture, Stop 1021, 1400 Independence Avenue, SW., Washington, DC 20250-1021; or by telephone at: (202) 720-0638; or by e-mail at: itspd@fas.usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated the duty to the Administrator of the Foreign Agricultural Service (7 CFR 2.43(a)(2) (2007)). The Annex to this notice contains the updated quantity trigger levels.

Additional information on the products subject to safeguards and the additional duties which may apply can be found in subchapter IV of Chapter 99 of the Harmonized Tariff Schedule of the United States (2011) and in the Secretary of Agriculture's Notice of Uruguay Round Agricultural Safeguard Trigger Levels, published in the Federal Register at 60 FR 427 (Jan. 4, 1995).

Notice: As provided in section 405 of the Uruguay Round Agreements Act, consistent with Article 5 of the Agreement on Agriculture, the safeguard quantity trigger levels previously notified are superceded by the levels indicated in the Annex to this notice. The definitions of these products were provided in the Notice of Uruguay Round Agricultural Safeguard Trigger Levels published in the Federal Register, at 60 FR 427 (Jan. 4, 1995).

Issued at Washington, DC, this 16th day of May 2011.
Suzanne E. Heinen,
Acting Administrator, Foreign Agricultural Service.

ANNEX

Quantity-Based Safeguard Trigger
Product | Trigger level | Period
Beef | 242,780 mt | January 1, 2011 to December 31, 2011.
Mutton | 5,576 mt | January 1, 2011 to December 31, 2011.
Cream | 867,562 liters | January 1, 2011 to December 31, 2011.
Evaporated or Condensed Milk | 2,262,128 kilograms | January 1, 2011 to December 31, 2011.
Nonfat Dry Milk | 327,518 kilograms | January 1, 2011 to December 31, 2011.
Dried Whole Milk | 2,135,595 kilograms | January 1, 2011 to December 31, 2011.
Dried Cream | 21,166 kilograms | January 1, 2011 to December 31, 2011.
Dried Whey/Buttermilk | 18,594 kilograms | January 1, 2011 to December 31, 2011.
Butter | 6,188,045 kilograms | January 1, 2011 to December 31, 2011.
Butter Oil and Butter Substitutes | 6,441,469 kilograms | January 1, 2011 to December 31, 2011.
Dairy Mixtures | 30,574,663 kilograms | January 1, 2011 to December 31, 2011.
Blue Cheese | 4,530,512 kilograms | January 1, 2011 to December 31, 2011.
Cheddar Cheese | 9,824,536 kilograms | January 1, 2011 to December 31, 2011.
American-Type Cheese | 4,978,590 kilograms | January 1, 2011 to December 31, 2011.
Edam/Gouda Cheese | 6,388,906 kilograms | January 1, 2011 to December 31, 2011.
Italian-Type Cheese | 21,718,995 kilograms | January 1, 2011 to December 31, 2011.
Swiss Cheese with Eye Formation | 26,060,155 kilograms | January 1, 2011 to December 31, 2011.
Gruyere Process Cheese | 3,411,433 kilograms | January 1, 2011 to December 31, 2011.
Lowfat Cheese | 448,925 kilograms | January 1, 2011 to December 31, 2011.
NSPF Cheese | 41,636,693 kilograms | January 1, 2011 to December 31, 2011.
Peanuts | 18,176 mt | April 1, 2010 to March 31, 2011.
| 19,279 mt | April 1, 2011 to March 31, 2012.
Peanut Butter/Paste | 4,493 mt | January 1, 2011 to December 31, 2011.
Raw Cane Sugar | 1,142,815 mt | October 1, 2010 to September 30, 2011.
| 1,278,131 mt | October 1, 2011 to September 30, 2012.
Refined Sugar and Syrups | 176,800 mt | October 1, 2010 to September 30, 2011.
| 203,088 mt | October 1, 2011 to September 30, 2012.
Blended Syrups | 134 mt | October 1, 2010 to September 30, 2011.
| 192 mt | October 1, 2011 to September 30, 2012.
Articles Over 65% Sugar | 277 mt | October 1, 2010 to September 30, 2011.
| 247 mt | October 1, 2011 to September 30, 2012.
Articles Over 10% Sugar | 15,083 mt | October 1, 2010 to September 30, 2011.
| 16,434 mt | October 1, 2011 to September 30, 2012.
Sweetened Cocoa Powder | 1,054 mt | October 1, 2010 to September 30, 2011.
| 700 mt | October 1, 2011 to September 30, 2012.
Chocolate Crumb | 8,051,334 kilograms | January 1, 2011 to December 31, 2011.
Lowfat Chocolate Crumb | 211,289 kilograms | January 1, 2011 to December 31, 2011.
Infant Formula Containing Oligosaccharides | 582,933 kilograms | January 1, 2011 to December 31, 2011.
Mixes and Doughs | 383 mt | October 1, 2010 to September 30, 2011.
| 286 mt | October 1, 2011 to September 30, 2012.
Mixed Condiments and Seasonings | 280 mt | October 1, 2010 to September 30, 2011.
| 432 mt | October 1, 2011 to September 30, 2012.
Ice Cream | 2,309,155 liters | January 1, 2011 to December 31, 2011.
Animal Feed Containing Milk | 39,223 kilograms | January 1, 2011 to December 31, 2011.
Short Staple Cotton | 591,350 kilograms | September 20, 2010 to September 19, 2011.
| 30,605 kilograms | September 20, 2011 to September 19, 2012.
Harsh or Rough Cotton | 0 kilograms | August 1, 2010 to July 31, 2011.
| 60 kilograms | August 1, 2011 to July 31, 2012.
Medium Staple Cotton | 149,148 kilograms | August 1, 2010 to July 31, 2011.
| 51,298 kilograms | August 1, 2011 to July 31, 2012.
Extra Long Staple Cotton | 2,017,042 kilograms | August 1, 2010 to July 31, 2011.
| 1,007,631 kilograms | August 1, 2011 to July 31, 2012.
Cotton Waste | 432,133 kilograms | September 20, 2010 to September 19, 2011.
| 595,320 kilograms | September 20, 2011 to September 19, 2012.
Cotton, Processed, Not Spun | 31,338 kilograms | September 11, 2010 to September 10, 2011.
| 75,787 kilograms | September 11, 2011 to September 10, 2012.

[FR Doc. 2011-13223 Filed 5-27-11; 8:45 am]

BILLING CODE 3410-10-P